DEPARTMENT OF ENERGY

Federal Energy Regulatory Commission

[Project No. 4644-017]

GR Catalyst Two, LLC; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 4644-017.

c. Date filed: December 2, 2024.¹

¹ The Commission's Rules of Practice and Procedure provide that if a deadline falls on a Saturday, Sunday, holiday, or other day when the Commission is closed for business, the deadline does not end until the close of business on the next business day. 18 CFR 385.2007(a)(2). Because the deadline for filing a license application fell on a Saturday (i.e., November 30, 2024), the deadline was extended until the close of business on Monday, December 2, 2024.

d. Applicant: GR Catalyst Two, LLC (GR Catalyst).

e. Name of Project: Dahowa Hydroelectric Project (Dahowa Project or project).

f. Location: On the Battenkill River in Washington County, New York.

g. Filed Pursuant to: Federal Power Act 16 U.S.C. 791(a)-825(r).

h. Applicant Contact: Katharine D. Nicholson, Chief Financial Officer, Gravity Renewables, Inc., P.O. Box 7580, Boulder, CO 80306, Phone: (303) 615-3105, Email: kathy@gravityrenewables.com; Celeste Fay, Director of Regulatory Affairs, Gravity Renewables, Inc, 5 Dartmouth Drive, Suite 104, Auburn, NH 03032, Phone: (413) 262-9466, Email: Celeste@gravityrenewables.com.

i. FERC Contact: Claire Rozdilski at (202) 502-8259, or claire.rozdilski@ferc.gov.

j. Cooperating agencies: Federal, State, local, and Tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 31, 2025.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Dahowa Hydroelectric Project (P-4644-017).

m. The application is not ready for environmental analysis at this time.

n. The Dahowa Project consists of the following existing facilities: (1) a 163-foot-long concrete ogee dam that varies from 3 to 15 feet in height (averaging 6 feet high) with a crest elevation of 235 feet ² and fitted with 5-foot-high timber flashboards; (2) a 228-foot-long, 8-foot-high concrete headrace wall with a crest elevation of 237 feet and 3-foot-high timber flashboards; (3) an impoundment with a surface area of approximately 2.7 acres, a storage capacity of approximately 12.5 acre-feet, and a normal water surface elevation of 240.0 feet; (4) an intake with a trashrack with 2.5-inch clear bar spacing; (5) a circular 142-foot-deep concrete powerhouse with an exterior diameter of approximately 44 feet and containing one vertical Kaplan turbine-generator unit with a capacity of 10.5 megawatts; (6) an underground tailrace tunnel; (7) a 5/34.5-kilovolt (kV) step-up transformer; (8) a substation; (9) a 690-foot-long 34.5-kV transmission line; and (10) appurtenant facilities.

² All elevation values reported herein reference the National Geodetic Vertical Datum of 1929.

The current Commission-approved recreation management plan requires the licensee to maintain a public fishing area upstream of the dam on the east side of the impoundment. The area consists of a 700-foot-long access trail, a parking area, and signage. The recreation management plan also requires the licensee to provide access to a conservation and preservation area located on the west side of the impoundment and maintain a parking area, signage, an approximately 1,300-foot-long access trail loop, and overlook walkway structures for viewing Dionondahowa (Dahowa) Falls.

The Dahowa Project operates in a run-of-river mode. There is no available usable storage behind the dam. Article 402 of the current license requires a minimum flow release of 40 cubic feet per second (cfs) over the flashboards between 6:00 a.m. and 8:00 p.m. from the third Saturday in May through Labor Day weekend and from sunrise to sunset on weekends and holidays from Labor Day weekend through November 30 to provide flows over Dahowa Falls, a natural waterfall with an approximate height of 70 feet, to enhance aesthetic resources. At all other times, a minimum flow release of 25 cfs over the flashboards is required for water quality purposes and for the protection of flow-dependent resources. GR Catalyst is not proposing any modifications to existing project facilities or changes to the operation of the project.

The Dahowa Project has an annual generation of approximately 33,500 megawatt-hours.

o. A copy of the application can be viewed on the Commission's website at http://www.ferc.gov, using the “eLibrary” link. Enter the docket number, excluding the last three digits in the docket number field, to access the document (P-4644). For assistance, contact FERC at FERCOnlineSupport@ferc.gov, or call toll-free, (866) 208-3676 or (202) 502-8659 (TTY).

You may also register online at https://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

p. Procedural schedule and final amendments: The application will be processed according to the following preliminary schedule. Revisions to the schedule will be made as appropriate.

Milestone | Target date
Issue Deficiency Letter (if necessary) | February 2025.
Request Additional Information | February 2025.
Issue Acceptance Letter | June 2025.
Issue Scoping Document 1 for comments | July 2025.
Issue Scoping Document 2 (if necessary) | September 2025.
Issue Notice of Ready for Environmental Analysis | September 2025.

Final amendments to the application must be filed with the Commission no later than 30 days from the issuance date of the notice of ready for environmental analysis.

Dated: December 13, 2024.
Debbie-Anne A. Reese,
Secretary.

[FR Doc. 2024-30276 Filed 12-18-24; 8:45 am]

BILLING CODE 6717-01-P